DEPARTMENT OF COMMERCE

Foreign-Trade Zones Board

[B-55-2016]

Foreign-Trade Zone (FTZ) 281—Miami, Florida; Notification of Proposed Production Activity Carrier InterAmerica Corporation (Heating, Ventilating and Air Conditioning Systems); Miami, Florida

Miami-Dade County, grantee of FTZ 281, submitted a notification of proposed production activity to the FTZ Board on behalf of Carrier InterAmerica Corporation (Carrier), located in Miami, Florida. The notification conforming to the requirements of the regulations of the FTZ Board (15 CFR 400.22) was received on August 5, 2016.

The Carrier facility is located within Site 3 of FTZ 281. The facility is used to combine and segregate mini-split and multi-split type heating, ventilating, and air conditioning (HVAC) systems. Pursuant to 15 CFR 400.14(b), FTZ activity would be limited to the specific foreign-status materials and components and specific finished products described in the submitted notification (as described below) and subsequently authorized by the FTZ Board.

Production under FTZ procedures could exempt Carrier from customs duty payments on the foreign-status components used in export production. On its domestic sales, Carrier would be able to choose the duty rates during customs entry procedures that apply to mini-split and multi-split type HVAC systems and their component evaporator and condensing units (duty rates range from 1% to 2.2%) for the foreign-status inputs noted below. Customs duties also could possibly be deferred or reduced on foreign-status production equipment.

The components and materials sourced from abroad include: Mini-split type HVAC systems, evaporator units and condensing units (duty rates range from 1% to 2.2%).

Public comment is invited from interested parties. Submissions shall be addressed to the Board's Executive Secretary at the address below. The closing period for their receipt is October 4, 2016.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Diane Finver at Diane.Finver@trade.gov or (202) 482-1367.

Dated: August 18, 2016.
Andrew McGilvray,
Executive Secretary.

[FR Doc. 2016-20327 Filed 8-24-16; 8:45 am]

BILLING CODE 3510-DS-P